DEPARTMENT OF THE INTERIOR

National Park Service

[NPS-NER-ACAD-32771; PPNEACADSO, PPMPSPDIZ.YM0000]

Acadia National Park Advisory Commission Notice of Public Meetings

AGENCY: National Park Service, Interior.

ACTION: Meeting notice.

SUMMARY: In accordance with the Federal Advisory Committee Act of 1972, the National Park Service (NPS) is hereby giving notice that the Acadia National Park Advisory Commission (Commission) will meet as indicated below.

DATES: The Commission will meet via teleconference on Monday, February 7, 2022; Monday, June 6, 2022; and Monday, September 12, 2022. All scheduled meetings will begin at 1:00 p.m. and will end by 4:00 p.m. (Eastern).

ADDRESSES: Information on joining the teleconference will be available on the Acadia National Park website at https://www.nps.gov/acad/getinvolved/acadia-advisory-commission.htm.

FOR FURTHER INFORMATION CONTACT: Kathy Flanders, Superintendent's Secretary, Acadia National Park, P.O. Box 177, Bar Harbor, Maine 04609, telephone (207) 288-8702 or kathy_flanders@nps.gov.

SUPPLEMENTARY INFORMATION: The Commission was established by section 103 of Public Law 99-420, as amended, (16 U.S.C. 341 note), and in accordance with the Federal Advisory Committee Act (5 U.S.C. appendix 1-16). The Commission advises the Secretary of the Interior and the NPS on matters relating to the management and development of Acadia National Park, including but not limited to, the acquisition of lands and interests in lands (including conservation easements on islands) and the termination of rights of use and occupancy.

The meetings are open to the public. Interested persons may make oral presentations to the Commission. Such requests should be made to the Superintendent at the beginning of the meeting. Depending on the number of persons wishing to speak, and the time available, the time for individual comments may be limited. Written comments can be sent to Kathy Flanders [see FOR FURTHER INFORMATION CONTACT]. All comments received will be provided to the Commission.

Purpose of the Meeting: The Commission meeting will consist of the following proposed agenda items:

1. Superintendent's Report

2. Committee Reports:

• Land Conservation

• Park Use

• Science and Education

• Historic

3. Old Business

4. New Business

5. Chairman's Report

6. Public Comments

7. Adjournment

Public Disclosure of Information: Before including your address, phone number, email address, or other personal identifying information in your comments, you should be aware that your entire comment—including your personal identifying information—may be made publicly available at any time. While you can ask us in your comment to withhold your personal identifying information from public review, we cannot guarantee that we will be able to do so.

Authority: 5 U.S.C. appendix 2

Alma Ripps,
Chief, Office of Policy.

[FR Doc. 2021-24291 Filed 11-5-21; 8:45 am]

BILLING CODE 4312-52-P